ENVIRONMENTAL PROTECTION AGENCY

[EPA-HQ-OPPT-2003-0004; FRL-9919-25]

Access to Confidential Business Information by Consultants to T.A. Consulting, Inc.

AGENCY: Environmental Protection Agency (EPA).

ACTION: Notice.

SUMMARY: EPA has authorized consultants, Warren Muir and John Young of contractor T.A. Consulting, Inc. of Virginia Beach, VA, to access information which has been submitted to EPA under all sections of the Toxic Substances Control Act (TSCA). Some of the information may be claimed or determined to be Confidential Business Information (CBI).

DATES: Access to the confidential data will occur on or about November 12, 2014.

FOR FURTHER INFORMATION CONTACT: For technical information contact: Scott M. Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under contract number GS-10F-0261M, project number EPA DOI-FCG FY2014-26 accessed by EPA through an Interagency Agreement with the U.S. Department of Interior (IAG No. 95773601-C), consultants Warren Muir and John Young of contractor T.A. Consulting, Inc. of 3037 Little Haven Road, Virginia Beach, VA will assist the Office of Pollution Prevention and Toxics (OPPT) in the assessment of the current processes and assessment approaches used by OPPT to implement section 5 of TSCA, with the long term goal of implementing changes that result in significant resource savings without decreasing scientific integrity. The purpose of this critical assessment will be to assess the quality of scientific, engineering, and other technical foundations of the program. They will also assist in identifying what changes could be made to enable OPPT to more efficiently, effectively and collaboratively manage the potential risks of new chemicals.

In accordance with 40 CFR 2.306(j), EPA has determined that under contract number GS-10F-0261M, project number EPA DOI-FCG FY2014-26, T.A. Consulting, Inc. will require access to CBI submitted to EPA under all section(s) of TSCA to perform successfully the duties specified under the contract. Warren Muir and John Young will be given access to information submitted to EPA under all section(s) of TSCA. Some of the information may be claimed or determined to be CBI.

EPA is issuing this notice to inform all submitters of information under all sections of TSCA that EPA may provide Warren Muir and John Young access to these CBI materials on a need-to-know basis only. All access to TSCA CBI under this contract will take place at EPA Headquarters in accordance with EPA's TSCA CBI Protection Manual.

Access to TSCA data, including CBI, will continue until June 18, 2015. If the contract is extended, this access will also continue for the duration of the extended contract without further notice.

Warren Muir and John Young will be required to sign nondisclosure agreements and will be briefed on appropriate security procedures before they are permitted access to TSCA CBI.

Authority: 15 U.S.C. 2601 et seq.

Dated: November 19, 2014.
Pamela S. Myrick,
Acting Director, Information Management Division, Office of Pollution Prevention and Toxics.

[FR Doc. 2014-28954 Filed 12-9-14; 8:45 am]

BILLING CODE 6560-50-P